DEPARTMENT OF THE INTERIOR

National Park Service

[NPS-WASO-NAGPRA-NPS0029328; PPWOCRADN0-PCU00RP14.R50000]

Notice of Inventory Completion: State University of New York at Buffalo, Buffalo, NY

AGENCY: National Park Service, Interior.

ACTION: Notice.

SUMMARY: The State University of New York at Buffalo has completed an inventory of human remains, in consultation with the appropriate Indian Tribes or Native Hawaiian organizations, and has determined that there is a cultural affiliation between the human remains and present-day Indian Tribes or Native Hawaiian organizations. Lineal descendants or representatives of any Indian Tribe or Native Hawaiian organization not identified in this notice that wish to request transfer of control of these human remains should submit a written request to the State University of New York at Buffalo. If no additional requestors come forward, transfer of control of the human remains to the lineal descendants, Indian Tribes, or Native Hawaiian organizations stated in this notice may proceed.

DATES: Lineal descendants or representatives of any Indian Tribe or Native Hawaiian organization not identified in this notice that wish to request transfer of control of these human remains should submit a written request with information in support of the request to the State University of New York at Buffalo at the address in this notice by February 27, 2020.

ADDRESSES: Douglas J. Perrelli, Ph.D., RPA, University at Buffalo, 380 MFAC, Ellicott Complex, Buffalo, NY 14261, telephone (716) 645-2297, email perrelli@buffalo.edu.

SUPPLEMENTARY INFORMATION: Notice is here given in accordance with the Native American Graves Protection and Repatriation Act (NAGPRA), 25 U.S.C. 3003, of the completion of an inventory of human remains and associated funerary objects under the control of the State University of New York at Buffalo, Buffalo, NY. The human remains were removed from sites in Jefferson and Onondaga Counties, NY.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the SUNY at Buffalo professional staff in consultation with representatives of the Oneida Indian Nation (previously listed as the Oneida Nation of New York) and the Onondaga Nation.

History and Description of the Cultural Item(s)

In 1972, human remains representing, at minimum, one individual were removed from the Bolio site near Watertown, NY. The human remains were recovered during excavation of a gravel pit near the Jefferson County Highway Department building. Incorporation of the human remains into the museum's collection was not documented. The human remains include upper and lower limb fragments, rib and vertebral fragments, and bones from the pelvic region. No known individuals were identified. No associated funerary objects are present.

In 1972, human remains representing, at minimum, two individuals were removed from the Carlos site in Watertown, NY. The human remains were removed during excavations by the archeological field crew at the University at Buffalo, and were subsequently incorporated into the museum's collection. The human remains include a zygomatic fragment (small bone found on the face) and one upper central incisor from one context, and a small bone fragment found in the topsoil. Museum documents indicate the human remains date to the Late Woodland Period. No known individuals were identified. No associated funerary objects are present.

At an unknown time, human remains representing, at minimum, one individual were removed from the Denman's Island site in Onondaga County, NY. How the museum acquired these human remains is unknown. The human remains include rib fragments, fragments from bones of the feet, and other small bone fragments. Records indicate they came from a Middle-Late Woodland Camp Site. No known individuals were identified. No associated funerary objects are present.

In 1969, human remains representing, at minimum, one individual were removed from the Durham site near Rutland, NY. The human remains were recovered during a University at Buffalo field school excavation. The human remains include one molar. The molar was removed from a non-burial context. According to records, the site was a Late Woodland Iroquois village. No known individuals were identified. No associated funerary objects are present.

In 1968, human remains representing, at minimum, one individual were removed from the Ellisburg Town Barn site in Ellisburg, NY. The human remains were recovered by University at Buffalo archeologists in a surface collection during construction of the Ellisburg Town Barn. The human remains include long bone (limb) fragments and a tooth fragment. Some documents indicate the human remains may be dated prior to European contact. No known individuals were identified. No associated funerary objects are present.

In 1966, human remains representing, at minimum, eight individuals were removed from the Jamesville Lake site in Lafayette Township, NY. No documentation explaining how the University at Buffalo came to acquire these human remains exists. Some of these individuals are represented by nearly complete skeletons, while others are represented by only a small number of bones. This site dates to the late 17th century (according to James Tuck's 1971 Onondaga Iroquois Prehistory). No known individuals were identified. No associated funerary objects are present.

In 1972, human remains representing, at minimum, two individuals were removed from the Cronk/Morse/Dry Hill site near Watertown, NY. The human remains were recovered during test excavations by the University at Buffalo archeological field crew. The human remains include a worked skull fragment from one context, as well as a partial distal humerus, two long bone shaft fragments, a scapula, rib fragments, and other fragmented bone pieces. Records indicate the site dates from the Late Woodland through Contact Periods. No known individuals were identified. No associated funerary objects are present.

In 1968, human remains representing, at minimum, four individuals were removed from the Potocki site in Ellisburg, NY. The human remains were recovered during excavation led by University at Buffalo archeologist Marian E. White. The human remains include an almost complete skeleton documented as `Burial 1', a number of fragmentary long bone, teeth, rib, and cranial bones labelled as `Burial 2', a human tooth from `Test Area 8, Unit 3' representing Burial 3, and four fragmented human teeth representing Burial 4. Museum documents indicate the site was an Iroquoian Late Woodland Village Site. Two radiocarbon dates (one from charred vegetable fragments the other from charcoal) provided dates of A.D. 1830 and 1475. No known individuals were identified. No associated funerary objects are present.

In either 1966 or 1968, human remains representing, at minimum, one individual were removed from the Whitford site in Rodman, NY. Museum records indicate that a midden was excavated at this site in 1966, and that University at Buffalo archeologist Marian E. White and a crew of other archeologists partially excavated the site in July and August of 1968. The human remains include one molar tooth crown. No known individuals were identified. No associated funerary objects are present.

The human remains from these nine sites are determined to be affiliated with the Oneida Indian Nation (previously listed as the Oneida Nation of New York) and the Onondaga Nation. Affiliation was determined by comparing precise geographic locations of each site with the `Indian Nation Areas of Interest' map which was prepared by the New York State Historic Preservation Office in consultation with the Indian Nations of New York State in August 2014. This determination further was supported by consultation with both nations.

Determinations Made by the State University of New York at Buffalo

Officials of the State University of New York at Buffalo have determined that:

• Pursuant to 25 U.S.C. 3001(9), the human remains described in this notice represent the physical remains of 21 individuals of Native American ancestry.

• Pursuant to 25 U.S.C. 3001(2), there is a relationship of shared group identity that can be reasonably traced between the Native American human remains and the Oneida Indian Nation (previously listed as the Oneida Nation of New York) and the Onondaga Nation.

Additional Requestors and Disposition

Lineal descendants or representatives of any Indian Tribe or Native Hawaiian organization not identified in this notice that wish to request transfer of control of these human remains should submit a written request with information in support of the request to Douglas J. Perrelli, Ph.D., RPA, University at Buffalo, 380 MFAC, Ellicott Complex, Buffalo, NY 14261, telephone 716.645.2297, email perrelli@buffalo.edu, by February 27, 2020. After that date, if no additional requestors have come forward, transfer of control of the human remains to the Oneida Indian Nation (previously listed as the Oneida Nation of New York) and the Onondaga Nation may proceed.

The State University of New York at Buffalo is responsible for notifying the Oneida Indian Nation (previously listed as the Oneida Nation of New York) and the Onondaga Nation that this notice has been published.

Dated: November 14, 2019.
Melanie O'Brien,
Manager, National NAGPRA Program.

[FR Doc. 2020-01352 Filed 1-27-20; 8:45 am]

BILLING CODE 4312-52-P